LIBRARY OF CONGRESS

Copyright Office

[Docket No. 2019-3]

Public Draft of the Compendium of U.S. Copyright Office Practices

AGENCY: U.S. Copyright Office, Library of Congress.

ACTION: U.S. Copyright Office releases public draft of an update to the Compendium of U.S. Copyright Office Practices, Third Edition.

SUMMARY: The U.S. Copyright Office is announcing the release of a public draft of an update to its administrative manual, the Compendium of U.S. Copyright Office Practices, Third Edition. The update has been released in draft form to give the public an opportunity to review and provide comments on the revisions.

DATES: Comments must be made in writing and must be received in the U.S. Copyright Office no later than May 14, 2019. The Copyright Office will hold a webinar to review the proposed revisions on April 10, 2019, at 2:00 p.m. EST, which may be accessed from the web page referenced in the Addresses section below.

ADDRESSES: The public draft of the update to the Compendium of U.S. Copyright Office Practices, Third Edition is available on the Office's website at https://www.copyright.gov/comp3/draft.html. The webinar on the proposed revisions may be accessed from the same web page. For reasons of government efficiency, the Copyright Office is using the regulations.gov system for the submission and posting of public comments related to this draft. All comments are therefore to be submitted electronically through regulations.gov. Specific instructions for submitting comments are available on the Copyright Office website at https://www.copyright.gov/comp3/draft/comment-submission. If electronic submission of comments is not feasible due to lack of access to a computer and/or the internet, please contact the Office using the contact information below for special instructions.

FOR FURTHER INFORMATION CONTACT: Robert J. Kasunic, Associate Register and Director of Registration Policy and Practice or Regan A. Smith, General Counsel and Associate Register of Copyrights, by telephone at 202-707-8040 or by email at rkas@copyright.gov and regans@copyright.gov.

SUPPLEMENTARY INFORMATION: The Compendium of U.S. Copyright Office Practices, Third Edition (“Compendium”) is the administrative manual of the U.S. Copyright Office (the “Office”). It “explains many of the practices and procedures concerning the Office's mandate and statutory duties of the Copyright Office under title 17 of the United States Code.” 37 CFR 201.2(b)(7). “It is both a technical manual for the Copyright Office's staff, as well as a guidebook for authors, copyright licensees, practitioners, scholars, the courts, and members of the general public.” Id.

To ensure that this manual remains up to date, the Office is now releasing a draft revision of the Compendium. This is the first update since the Compendium was revised on September 29, 2017. 82 FR 45625 (Sept. 29, 2017). This update is the result of a careful review of changes to the Office's practices and procedures, as well as recent changes in the law.

In particular, the Compendium has been updated to reflect the Supreme Court's decision in Star Athletica v. Varsity Brands, 137 S. Ct. 1002 (2017). The draft provides new guidance for claims involving useful articles, as well as claims involving works of artistic craftsmanship, models, technical drawings, and other works of the visual arts.

Additionally, the Compendium has been updated to reflect rulemakings that the Office has completed over the past seventeen months. It provides information concerning the new group registration options for unpublished works and unpublished photographs, and the recent changes to the rules governing the group registration options for published photographs and serials, newspaper, and newsletter issues.¹ It reflects the new deposit requirements for literary monographs, printed music, and photographic databases, and the recent changes to the regulation on the Single Application.² It also incorporates changes made by the recent technical amendments to the regulation governing copyright notice.³

¹ See 83 FR 2542 (Jan. 18, 2018) (final rule on group photographs); 83 FR 4144 (Jan. 30, 2018), 84 FR 3698 (Feb. 13, 2019) (final rules on group newspapers); 83 FR 61546 (Nov. 30, 2018) (final rule on group serials and group newsletters); 84 FR 3693 (Feb. 13, 2019) (final rule on unpublished works).

² See 83 FR 2371 (Jan 17, 2018) (final rule on literary monographs and printed music); 83 FR 2542 (Jan. 18, 2018) (final rule on group photographs); 83 FR 66627 (Dec. 27, 2018) (final rule on the Single Application).

³ See 82 FR 42735 (Sept. 12, 2017).

The Office recently issued other proposals to amend its registration regulations, including regarding architectural works, and a new group registration option for short online literary works.⁴ The final version of the Compendium will include information about these amendments if the Office issues a final rule in these proceedings before this update goes into effect. The final version will also include updates to reflect the Supreme Court's recent decision in Fourth Estate Public Benefit Corp. v. Wall-Street.com, LLC, 586 U.S. _ (Mar. 4, 2019).

⁴ See 83 FR 65612 (Dec. 21, 2018) (proposed rule on short online literary works); 83 FR 66182 (Dec. 26, 2018) (proposed rule on architectural works).

The Compendium has been updated to reflect certain technical upgrades that have been made to the electronic registration system. The Office has introduced a new and improved version of the Single Application, and finalized a regulatory update related to thisupgrade.⁵ It modified the authorship statements in the application for registering a single issue of a serial publication. It expanded the unique identifiers that may be provided in an application for copyright registration, such as ISMN, ISWC, and ISTC numbers. And it added a new feature that will allow certain file types to be uploaded to the electronic system, while blocking unacceptable file types.⁶

⁵ See 83 FR at 66627.

⁶ Additional information concerning these technical upgrades is available on the Office's website at https://www.copyright.gov/eco/updates/index.html.

Finally, the Compendium has been updated to reflect a number of practice changes that have been implemented by the Office of Registration Policy & Practice. These changes are intended to increase the efficiency of the examination process, reduce pendency times, and enhance the quality of the registration record. Among other improvements, the revisions clarify how and when the Office will communicate with applicants, when it will attempt to correct deficiencies in the application, when it will register a claim with an annotation, and when it will refuse registration.⁷

⁷ See, e.g, Compendium public draft Chapter 600, sections 603.2(C), 605.3(D), 605.4, 605.6(B), 605.6(C), 605.6(D), 606, 610.6(B), 610.6(D)(4), 618.8(A)(8), 618.8(C)(3), 618.8(D)(2), 618.8(F), 618.8(H), 618.8(I), 619.13(Q), 619.19(T), 620.10(D)(1)(c), 621.9(E)(3), 621.9(F)(2), and 621.9(G).

The public draft for this update to the Compendium may be viewed on the Office's website at https://www.copyright.gov/comp3/draft.html. The Office has provided redlines that compare the public draft with the version of the Compendium that was released on September 29, 2017. In addition, the Office's website provides a complete list of the sections that will be added, amended, or removed in this update.

The Office welcomes comments on the public draft. In the meantime, the update will remain in draft form pending the Office's review of any comments that are received.⁸

⁸ Documents and copyright claims recorded or registered on or after the date that the final version goes into effect will be governed by that version of the Compendium. Registrations and recordations issued by the Office before that date generally will be governed by the December 29, 2014 or September 29, 2017 versions of the Compendium (as the case may be), except where those versions have been superseded by an amendment to the regulations, intervening case law, or previously announced changes in practices.

Dated: March 11, 2019.
Regan A. Smith,
General Counsel and Associate Register of Copyrights.

[FR Doc. 2019-04798 Filed 3-14-19; 8:45 am]

BILLING CODE 1410-30-P